DEPARTMENT OF STATE

[Public Notice 4269]

Notice of Meeting of the United States International Telecommunication Advisory Committee To Prepare for ITU Council Meeting April 17, 2003

The Department of State announces a meeting of the U.S. International Telecommunication Advisory Committee (ITAC) on April 17 to discuss the International Telecommunication Union (ITU) Council meeting to be held in Geneva from May 5 to May 16. The purpose of the ITAC meeting is to advise the Department on policy, technical and operational issues that will be considered by the Council. The time and location of the ITAC meeting will be announced via email. People may join the e-mail broadcast list by sending a request to worsleydm@state.gov or calling (202) 647-2592.

Dated: March 24, 2003.
Marian Gordon,
Director, Telecommunication & Information Standardization,Department of State.

[FR Doc. 03-7780 Filed 3-31-03; 8:45 am]

BILLING CODE 4710-45-P